DEPARTMENT OF TRANSPORTATION

Federal Highway Administration

Notice of Final Federal Agency Actions on United States Highway 77

AGENCY: Federal Highway Administration (FHWA), DOT.

ACTION: Notice of Limitation on Claims for Judicial Review of Actions by FHWA and Other Federal Agencies.

SUMMARY: This notice announces actions taken by the FHWA and other Federal agencies that are final within the meaning of 23 U.S.C. § 139(l)(1). The actions relate to a proposed highway project, United States (US) 77, extending from Interstate Highway 37 (IH 37) in Corpus Christi, Texas to US 83 in Harlingen, Texas. Those actions grant licenses, permits, and approvals for the project.

DATES: By this notice, the FHWA is advising the public of final agency actions subject to 23 U.S.C. 139(l)(1). A claim seeking judicial review of the Federal agency actions on the highway project will be barred unless the claim is filed on or before February 11, 2013. If the Federal law that authorizes judicial review of a claim provides a time period of less than 180 days for filing such claim, then that shorter time period still applies.

FOR FURTHER INFORMATION CONTACT: Mr. Gregory Punske, P.E., District Engineer, District B (South), Federal Highway Administration, 300 East 8th Street, Room 826, Austin, Texas 78701; telephone: (512) 536-5960; email: gregory.punske@dot.gov. The FHWA Texas Division Office's normal business hours are 7:45 a.m. to 4:15 p.m. (central time) Monday through Friday.

You may also contact Mr. Carlos Swonke, Environmental Affairs Division, Texas Department of Transportation, 118 E. Riverside Drive, Austin, Texas 78704; telephone: (512) 416-2734; email: Carlos.Swonke@txdot.gov. The Texas Department of Transportation normal business hours are 8 a.m. to 5 p.m. (central time) Monday through Friday.

SUPPLEMENTARY INFORMATION: Notice is hereby given that the FHWA and other Federal agencies have taken final agency actions by issuing licenses, permits, and approvals for the following highway project in the State of Texas: United States highway (US) 77 extending from Interstate Highway 37 (IH 37) in Corpus Christi, Texas to US 83 in Harlingen, Texas. The proposed US 77 Upgrade Project area is approximately 122 miles in length and is defined by its northern logical terminus at the interchange of US 77 and IH 37 in Corpus Christi, Texas to the interchange of US 77 and US 83 in Harlingen, Texas at its southern terminus. The proposed project consists of upgrading the mainlanes of existing US 77 to a controlled access facility that meets Interstate standards, along with new location relief routes around Driscoll and Riviera. The typical section is anticipated to remain a four-lane divided roadway for the entire project length. In select locations, the four main lanes would be supplemented by access roads, overpasses, and interchanges to facilitate local access. The purpose of the proposed project is to improve safety, mobility, and continuity within the US 77 Upgrade Project corridor. The actions by the Federal agencies, and the laws under which such actions were taken, are described in the Environmental Assessment (EA) for the project, dated June 2012, in the FHWA Finding of No Significant Impact (FONSI) issued on July 10, 2012 and in other documents in the FHWA project technical files. The EA, FONSI and other documents in the FHWA project technical file are available by contacting the FHWA or the Texas Department of Transportation at the addresses provided above. The FHWA EA and FONSI can be viewed and downloaded from the TxDOT Web site at http://www.txdot.gov/project_information/projects/corpus_christi/us77_upgrade.htm.

This notice applies to all Federal agency decisions as of the issuance date of this notice and all laws under which such actions were taken, including but not limited to:

1. General: National Environmental Policy Act (NEPA) [42 U.S.C. 4321 et seq.]; Federal-Aid Highway Act [23 U.S.C. 109].

2. Air: Clean Air Act [42 U.S.C. 7401-7671(q)].

3. Land: Section 4(f) of the Department of Transportation Act of 1966 [23 U.S.C. 138 and 49 U.S.C. 303].

4. Wildlife: Endangered Species Act [16 U.S.C. 1531-1544]; Fish and Wildlife Coordination Act [16 U.S.C. 661-667(d)]; and, Migratory Bird Treaty Act [16 U.S.C. 703-712].

5. Historic and Cultural Resources: Section 106 of the National Historic Preservation Act of 1966, as amended [16 U.S.C. 470]; Archaeological Resources Protection Act of 1979 [16 U.S.C. 470]; Archaeological and Historical Preservation Act [16 U.S.C. 469].

6. Social and Economic: Title VI of the Civil Rights Act of 1964 [42 U.S.C. 2000(d) et seq.]; Farmland Protection Policy Act (FPPA) [7 U.S.C. 4201-4209].

7. Wetlands and Water Resources: Clean Water Act [33 U.S.C. 1251-1342]; Land and Water Conservation Fund (LWCF) [16 U.S.C. 4601-4604].

8. Executive Orders: E.O. 11990 Protections of Wetlands; E.O. 11988 Floodplain Management; E.O. 12898, Federal Actions to Address Environmental Justice in Minority Populations and Low Income Populations; E.O. 11514 Protections and Enhancement of Environmental Quality.

(Catalog of Federal Domestic Assistance Program Number 20.205, Highway Planning and Construction. The regulations implementing Executive Order 12372 regarding intergovernmental consultation on Federal programs and activities apply to this program.)

Authority: 23 U.S.C. 139(l)(1).

Issued on: August 8, 2012.
Gregory S. Punske,
District Engineer

[FR Doc. 2012-19883 Filed 8-13-12; 8:45 am]

BILLING CODE 4910-22-P